DEPARTMENT OF TRANSPORTATION

Federal Aviation Administration

14 CFR Parts 91, 121, 125, and 129

[Docket No. FAA-2004-17681; Amendment No. 91-283, 121-305, 125-46, 129-39]

RIN 2120-AI20

Fuel Tank Safety Compliance Extension (Final Rule) and Aging Airplane Program Update (Request for Comments); Extension of Comment Period

AGENCY: Federal Aviation Administration (FAA), DOT.

ACTION: Final rule and request for comments; extension of comment period.

SUMMARY: This action extends the comment period for the Aging Airplane Program Update portion of the Final Rule issued on July 30, 2004 (Fuel Tank Safety Compliance Extension (Final Rule) and Aging Airplane Program Update (Request for Comments)). In the Final Rule, the FAA extended the date for operators to comply with the special maintenance program requirements for transport airplane fuel tank systems from December 6, 2004 to December 16, 2008. In addition, the Final Rule included an overview of the findings of the FAA's review of our Aging Airplane Program and the additional rulemaking projects we plan because of that review. This extension is a result of a request from Airbus.

DATES: Send your comments on or before September 29, 2004.

ADDRESSES: You may send comments identified by Docket Number FAA-2004-17681 using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

For more information on the rulemaking process, see the SUPPLEMENTARY INFORMATION section of this document.

Privacy: We will post all comments we receive, without change, to http://dms.dot.gov, including any personal information you provide. For more information, see the Privacy Act discussion in the SUPPLEMENTARY INFORMATION section of this document.

Docket: To read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Mario L. Giordano, FAA, Aircraft Maintenance Division, Flight Standards Service, AFS-300, 800 Independence Avenue, SW., Washington DC 20591; telephone: (412) 262-9024 (x241); fax: (412) 264-9302, e-mail: Mario.Giordano@faa.gov.

SUPPLEMENTARY INFORMATION:

Comments Invited

The FAA continues to invite interested persons to take part in this rulemaking by sending written comments, data, or views about the Final Rule we issued on July 30, 2004 (Fuel Tank Safety Compliance Extension (Final Rule) and Aging Airplane Program Update (Request for Comments)(69 FR 45936, July 30, 2004)). We also invite comments about the economic, environmental, energy, or federalism impacts that might result from either the Fuel Tank Safety Compliance Extension or the Aging Airplane Program Update. The most helpful comments reference a specific portion of the Final Rule, explain the reason for any recommended change, and include supporting data. We ask that you send us two copies of written comments.

We will file in the docket all comments we receive, as well as a report summarizing each substantive public contact with FAA personnel about the Final Rule. The docket is available for public inspection before and after the comment closing date. If you wish to review the docket in person, go to the address in the ADDRESSES section of this preamble between 9 a.m. and 5 p.m., Monday through Friday, except Federal holidays. You may also review the docket using the Internet at the Web address in the ADDRESSES section.

Privacy Act: Using the search function of our docket Web site, anyone can find and read the comments received into any of our dockets, including the name of the individual sending the comment (or signing the comment for an association, business, labor union, etc.). You may review DOT's complete Privacy Act Statement in the Federal Register published on April 11, 2000 (65 FR 19477-78) or you may visit http://dms.dot.gov.

We will consider all comments we receive on either the Fuel Tank Safety Compliance Extension or the Aging Airplane Program Update by their respective comment period closing dates. We will consider comments filed late if it is possible to do so without incurring expense or delay.

If you want the FAA to acknowledge receipt of your comments on the Final Rule, include with your comments a pre-addressed, stamped postcard on which the docket number appears. We will stamp the date on the postcard and mail it to you.

Background

On July 30, 2004, the FAA issued Amendment No. 91-283, 121-305, 125-46, 129-39, Fuel Tank Safety Compliance Extension (Final Rule) and Aging Airplane Program Update (66 FR 45936, July 30, 2004). Comments to that document were to be received by August 30, 2004.

On August 5, 2004, Airbus asked the FAA to extend the comment period to October 31, 2004. In its petition, Airbus did not object to the existing notice period as it relates to the Fuel Tank Compliance Extension. However, Airbus believes the discussion of our plans about the relationship between design approval holders and operators are important and represent a major shift in our philosophy about regulatory requirements for design approval holders. Airbus expresses a strong interest in carefully considering the implications of these potential changes and providing comment to us. As such, Airbus believes the existing comment period for the Aging Airplane Program Update is inadequate.

While the FAA agrees with the petitioner's request for an extension of the comment period for the Aging Airplane Program Update, the FAA believes that an extension to October 31, 2004 would be excessive. As we stated in the Final Rule, the Aging Airplane Program Update was provided mainly for informational purposes. As part of the normal rulemaking process, the public will have an opportunity to comment on the specifics of each proposal under the Aging Aircraft Program at the time we publish the applicable rulemaking documents. Therefore, we believe an added 30 days would be enough for the petitioner to respond to the Aging Airplane Program Update in the Final Rule.

Absent unusual circumstances, the FAA does not anticipate any further extension of the comment period for the Aging Airplane Program Update.

Extension of Comment Period

In accordance with 14 CFR 11.47(c), the FAA has reviewed the petition made by Airbus for an extension of the comment period to Amendment No. 91-283, 121-305, 125-46, 129-39. The FAA finds that extension of the comment period for the Aging Airplane Program Update is consistent with the public interest, and that good cause exists for taking this action. This petitioner has a substantive interest in the Aging Airplane Program Update and good cause for the extension.

Accordingly, the comment period for the Aging Airplane Program Update in Amendment No. 91-283, 121-305, 125-46, 129-39 is extended until September 29, 2004.

Issued in Washington, DC, August 17, 2004.
John M. Allen,
Deputy Director, Flight Standards Service.

[FR Doc. 04-19252 Filed 8-20-04; 8:45 am]

BILLING CODE 4910-13-P